DEPARTMENT OF THE INTERIOR

National Park Service

National Register of Historic Places; Notification of Pending Nominations and Related Actions

Nominations for the following properties being considered for listing or related actions in the National Register were received by the National Park Service before May 7, 2005. Pursuant to section 60.13 of 36 CFR Part 60 written comments concerning the significance of these properties under the National Register criteria for evaluation may be forwarded by United States Postal Service, to the National Register of Historic Places, National Park Service, 1849 C St., NW., 2280, Washington, DC 20240; by all other carriers, National Register of Historic Places, National Park Service,1201 Eye St., NW., 8th floor, Washington, DC 20005; or by fax, 202-371-6447. Written or faxed comments should be submitted by June 16, 2005.

John W. Roberts,
Acting Chief, National Register/National Historic Landmarks Program.

CALIFORNIA

Alameda County

Havens, Weston, House, 255 Panoramic Way, Berkeley, 05000597

Lassen County

Standish Hall, 718-820 U.S. 395 E, Standish, 05000596

COLORADO

Larimer County

Moraine Park Museum and Amphitheater, (Rocky Mountain National Park MPS) Rocky Mountain National Park, Estes Park, 05000602

DELAWARE

New Castle County

Air Service, Inc Hangar at Bellanca Airfield, DE 273 and Center Point Blvd, New Castle, 05000601

FLORIDA

Miami-Dade County

Coc Plum Woman's Club, (Clubhouses of Florida's Woman's Clubs MPS), 1375 Sunset Dr. (SW 72nd St.), Coral Gables, 05000598

Sarasota County

Central—Cocoanut Historic District, 11th St., Tamiami Tr., 22nd Dt. and RR tracks, Sarasota, 05000599

ILLINOIS

Sangamon County

Town House, The, (Multiple Family Dwellings in Springfield, Illinois MPS), 718 7th St., Springfield, 05000603

INDIANA

Daviess County

Union Church and Cemetery, Old, 1125 E Approx ⅜ mi. S of jct. with 700 S, Alfordsville, 05000605

Howard County

Kokomo High School and Memorial Gymnasium, (Indiana's Public Common and High Schools MPS), 303 E Superior St. and 400 Apperson Way N, Kokomo, 05000607

Jackson County

Jackson, Joseph, Hotel, 2420 S. Main St., Vallonia, 05000610

Knox County

Nicholson, Andrew, Farmstead, 12095 E IN 550, Wheatland, 05000606

Lake County

Lake County Sanatorium Nurses Home, 2323 N. Main St., Crown Point, 05000608

Martin County

Martin County Courthouse, 220 Capital Ave., Shoals, 05000604

Wabash County

Honeywell Studio, 378 N. IN 15, Wabash, 05000609

MISSISSIPPI

Franklin County

Lucien Bridge, (Historic Bridges of Mississippi TR), Over McCall Cr, on Stewart Rd., at Lucien, McCall Creek, 05000611

MISSOURI

Miller County

Sanning, P.A., Store, 256 MO H, Mary's Home, 05000613

St. Louis Independent City

Forest Park Southeast Historic District (Boundary Increase), 4170-4370 (even) and 4229-4341 (odd) Manchester Ave., St. Louis (Independent City), 05000612

NEW JERSEY

Morris County

Bottle Hill Historic District, James Park, 1-105 Ridgedale ave., Borough of Madison, 05000614

NEW YORK

Kings County

Church of the Holy Innocents, 279 E. 17th St., Brooklyn, 05000617

New York County

Building at 210 East 68th Street, 210 E. 68th St., New York, 05000619

Hotel Theresa, 2082-2096 Adam Clayton Powell, Jr. Blvd., New York, 05000618

Queens County

Queens County Savings Bank, 75-44 Main St., Kew Gardens Hills, 05000620

OKLAHOMA

Pittsburg County

Warden's House, Penitentiary Blvd and West St., McAlester, 05000615

Roger Mills County

Break O'Day Farm, 0.5 mi. SE of jct of E0680 Rd. and N1750 Rd., Durham, 05000616

WISCONSIN

Walworth County

Maple Park Historic District, Generally bounded by North, Cook, Main and Maxwell Sts., Lake Geneva, 05000621

A request for REMOVAL has been made for the following resource:

WISCONSIN

Walworth County

Smith, T.C., House 865 Main St. Lake Geneva, 82001852

[FR Doc. 05-10788 Filed 5-31-05; 8:45 am]

BILLING CODE 4212-51-P